NATIONAL COMMISSION ON LIBRARIES AND INFORMATION SCIENCE (NCLIS)

Hearing on “School Librarians: Knowledge Navigators Through Troubled Times” and NCLIS Business Meetings

AGENCY: National Commission on Libraries and Information Science.

ACTION: Notice of public hearing and NCLIS business meetings.

SUMMARY: The U.S. National Commission on Libraries and Information Science is holding a public hearing, “School Librarians: Knowledge Navigators Through Troubled Times” to examine school librarians as partners in education, and two business meetings.

DATES: NCLIS Business Meeting—April 25, 2001, 2 to 5 p.m. (closed), Cincinnati, Ohio.

Public Hearing—April 26, 2001, 9 a.m. to 4 p.m., Cincinnati, Ohio.

NCLIS Business Meeting—April 27, 2001, 8:30 a.m. to 12 noon, Cincinnati, Ohio.

Submit request to participate on or before April 13, 2001, Washington, DC.

Submit written comments on or before May 29, 2001, Washington, DC.

ADDRESSES: Open hearing and meeting location—Cincinnati Public Library (Huenefeld Tower Room, South Building), 800 Vine Street, Cincinnati, Ohio.

FOR FURTHER INFORMATION CONTACT: Rosalie Vlach, Director, Legislative and Public Affairs, U.S. National Commission on Libraries and Information Science, 1110 Vermont Avenue, NW., Suite 820, Washington, DC 20005, e-mail rvlach@nclis.gov; fax 202-606-9203; telephone 202-606-9200.

SUPPLEMENTARY INFORMATION: President Bush in presenting his plan Transforming the Federal Role In Education So That No Child is Left Behind said, “The federal role in education is not to serve the system. It is to serve the children.” The Commission recognizes the strong relationship between school library media programs and student achievement and the importance of information literacy to student empowerment, freedom of choice, quality of life, business and citizenship in a democracy. In carrying out its statutory mission to provide policy advice to the President and the Congress, the Commission will hold a hearing to examine school librarians as partners in education and invites school library media specialists, librarians, teachers, parents, students, citizens, legislators and expert representatives from educational associations, institutions and organizations to present testimony regarding current issues affecting school library media centers, including staffing, materials, equipment, services, and funding.

The Commission will hear from witnesses on the following topics: Panel One: The Role of the School Librarian in Student Performance; Panel Two: The Role of the School Librarian in the Curriculum; Panel Three: The Role of the School Librarian in Promoting and Sustaining Literacy; Panel Four: The Role of the School Librarian in Promoting and Sustaining Information Literacy; Panel Five: The Role of the Federal Government in Supporting School Libraries. The public hearing will be conducted on the record, with a stenographer present.

Members of the Commission will meet on April 25 to consider the National Award for Libraries. Because of the nature of this discussion, the meeting is closed.

In the NCLIS Business Meeting on April 27, the Commission will discuss NCLIS matters, including the prior day's hearing on “School Librarians: Knowledge Navigators Through Troubled Times,” the Comprehensive Assessment of Public Information Dissemination, the Library Statistics Program, and Sister Libraries: A White House Millennium Council Project.

Comments and requests to participate in the hearing should be directed to Rosalie Vlach, Director, Legislative and Public Affairs, U.S. National Commission on Libraries and Information Science, 1110 Vermont Avenue, NW., Suite 820, Washington, DC 20005 e-mail rvlach@nclis.gov, fax 202-606-9203 or telephone 202-606-9200. Each notification must include the name and organization affiliation, if any.

The hearing and meeting are open to the public, subject to space availability. Written comments for the hearing will be accepted and must be received no later than close of business on Tuesday, May 29, 2001 to become part of the hearing record.

To make special arrangements for persons with disabilities, contact Rosalie Vlach, Director, Legislative and Public Affairs, 1110 Vermont Avenue, NW., Suite 820, Washington, DC 20005, e-mail rvlach@nclis.gov, fax 202-606-9203 or telephone 202-606-9200.

Dated: March 14, 2001.
Robert S. Willard,
NCLIS Executive Director.

[FR Doc. 01-6862 Filed 3-19-01; 8:45 am]

BILLING CODE 7527-01-P